FEDERAL COMMUNICATIONS COMMISSION

47 CFR Part 73

[DA 00-2064; MM Docket Nos. 99-180, 00-59; RM-9583, RM-9734, RM-9759]

Radio Broadcasting Services; Cloverdale, Point Arena, Cazadero, CA

AGENCY: Federal Communications Commission.

ACTION: Final rule.

SUMMARY: The Commission, at the request of Mountain West Broadcasting, allots Channel 274A at Cloverdale, California, as the community's first local aural transmission service and denies the request of Point Broadcasting to allot Channel 274A at Cloverdale, California, as the community's first local aural transmission service. See 64 FR 32090 (June 7, 1999). The Commission, at the request of Point Broadcasting, also substitutes Channel 296A for Channel 296B1 at Point Arena, California and reallots Channel 296A to Cloverdale, California as the community's second local aural transmission service and first competitive service. See 65 FR 20790 (April 18, 2000). Channel 274A can be allotted to Cloverdale in compliance with the Commission's minimum distance separation requirements, with respect to domestic allotments, with a site restriction of 7.5 kilometers (4.7 miles), at coordinates 38-44-22 and 123-32-34. Channel 296A can be allotted at Cloverdale in compliance with the Commission's minimum distance separation requirements, with respect to domestic allotments, with a site restriction of 0.8 kilometers (0.5 miles), at coordinates 38-48-00 and 123-01-00. A filing window for Channel 274A at Cloverdale will not be opened at this time. Instead, the issue of opening a filing window for this channel will be addressed by the Commission in a subsequent order.

DATES: Effective October 30, 2000.

ADDRESSES: Federal Communications Commission, Washington, DC 20554.

FOR FURTHER INFORMATION CONTACT: Victoria M. McCauley, Mass Media Bureau, (202) 418-2180.

SUPPLEMENTARY INFORMATION: This is a synopsis of the Commission's Report and Order, MM Docket Nos. 99-180, 00-59, adopted August 30, 2000, and released September 15, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW., Washington, DC 20036.

List of Subjects in 47 CFR Part 73

Radio broadcasting.

Part 73 of title 47 of the Code of Federal Regulations is amended as follows:

PART 73—[AMENDED]

1. The authority citation for part 73 continues to read as follows:

Authority: 47 U.S.C. 154, 303, 334, 336.

2. Section 73.202(b), the Table of FM Allotments under California, is amended by removing Channel 296B1 at Point Arena, and adding Cloverdale, Channels 274A, 296A.

Federal Communications Commission.
John A. Karousos,
Chief, Allocations Branch, Policy and Rules Division, Mass Media Bureau.

[FR Doc. 00-24645 Filed 9-25-00; 8:45 am]

BILLING CODE 6712-01-P